NUCLEAR REGULATORY COMMISSION

[Docket No.: 70-1151]

Notice of Availability of Environmental Assessment and Finding of No Significant Impact for License Renewal for Westinghouse Electric Corporation, Columbia Fuel Fabrication Facility, Columbia, SC

AGENCY: U.S. Nuclear Regulatory Commission.

ACTION: Notice of availability.

FOR FURTHER INFORMATION CONTACT: Mary Adams, Senior Project Manager, Fuel Manufacturing Branch, Division of Fuel Cycle Safety and Safeguards, Office of Nuclear Material Safety and Safeguards, U.S. Nuclear Regulatory Commission, Mail Stop T-8F42, Washington, DC 20555. Telephone: (301) 415-7249; fax number: (310) 415-5955; e-mail: mta@nrc.gov.

SUPPLEMENTARY INFORMATION:

I. Introduction

The U.S. Nuclear Regulatory Commission is considering the renewal of Special Nuclear Material License SNM-1107 for the continued operation of the Westinghouse Electric Corporation, Columbia Fuel Fabrication Facility (CFFF) located near Columbia, South Carolina. This renewal would authorize the licensee to receive and possess nuclear materials at CFFF in order to fabricate and assemble nuclear fuel components under the provisions of 10 CFR part 70, Domestic Licensing of Special Nuclear Material. If approved, the renewed license term would be for 20 years. The NRC has prepared an environmental assessment (EA) in support of this action in accordance with the requirements of 10 CFR part 51. Based on the EA, the NRC has concluded that a Finding of No Significant Impact is appropriate. If approved, the renewed license would be issued following the publication of this Notice.

II. EA Summary

Proposed Action

The proposed action is to renew the SNM-1107 license for a 20-year period, thereby authorizing WEC to continue manufacturing nuclear fuel at CFFF. The current license authorizes WEC to receive, possess, use, and transfer special nuclear material at the CFFF in accordance with the requirements of 10 CFR part 70. The renewed license would provide the same continued authorization to WEC. WEC's request for the renewal was previously noticed in the Federal Register on December 29, 2005, (70 FR 249) with an opportunity to request a hearing. No hearing requests were received.

Need for the Proposed Action

CFFF is one of several facilities that fabricates fuel assemblies for commercial light-water cooled nuclear reactors. Continued production of the fuel assemblies is needed to meet the anticipated steady or increasing demand for electricity generated by these nuclear power reactors. WEC plans to continue to be a major supplier of this type of fuel through continued operations at the CFFF under its renewed NRC license.

Environmental Impacts of the Proposed Action

The NRC staff concluded that the proposed renewal, for a 20-year period, of license SNM-1107, involving the continued operations at the WEC CFFF, will not result in a significant impact to the environment. No significant impacts to site ecology are anticipated because of the proposed action. The proposed action will not adversely affect federal or state-listed threatened or endangered species nor other flora and fauna in the site vicinity. No significant impacts to regional historic and cultural resources are anticipated because of the proposed action. The license renewal request does not require altering undeveloped portions of the site. The proposed action can be viewed as a continuation of impacts and can be evaluated based on the previous impacts from past operations.

Airborne effluents released through stacks and liquid effluents released in the Congaree River are below and are anticipated to remain below regulatory limits for nonradiological and radiological contaminants. No significant impacts to air quality from radiological contaminants are anticipated because of the proposed action. The CFFF radiological gaseous emissions are within the 10 CFR part 20 limits. The levels of radioactive material in the discharged liquid effluent from CFFF are monitored and have historically remained below 10 CFR part 20 limits. Finally, doses to the general public have been a small fraction of the annual limit in 10 CFR 20.1301 and occupational exposures are also below the annual limit in 10 CFR 20.1201.

Agencies and Persons Consulted

The NRC staff consulted with other agencies regarding the proposed action. These agencies include the U.S. Fish and Wildlife Service (FWS), the South Carolina Department of Health and Environmental Control (SCDHEC), the South Carolina Department of Archives and History, i.e. the State Historic Preservation Office (SHPO), and the Catawba Indian Nation, i.e. the local Tribal Historic Preservation Office (THPO). These consultations were intended to ensure that the requirements of Section 106 of the National Historic Preservation Act and Section 7 of the Endangered Species Act were met and provided the designated state liaison agency the opportunity to comment on the proposed action.

Conclusion

The NRC staff concludes that the renewal of license SNM-1107 involving the continued operation of the CFFF site near Columbia will not result in a significant impact to the environment. The facility already exists, and no substantial changes to the facility or its operation are associated with the license renewal. The proposed action can be considered a continuation of impacts and was evaluated based on impacts from past operations. Gaseous emissions and liquid effluents are within regulatory limits for nonradiological and radiological components. Public and occupation radiological dose exposures are below 10 CFR part 20 regulatory limits.

III. Finding of No Significant Impact

On the basis of the EA, the NRC has concluded that there are no significant environmental impacts from the proposed action and has determined not to prepare an environmental impact statement.

IV. Further Information

Documents related to this action, including the application for renewal and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are:

Document | ADAMS accession No.
License Renewal Application | ML052990073
NRC Letter to THPO | ML063120174
NRC Letter to SHPO | ML063050373
NRC Letter to SCDHEC | ML063040417
NRC Letter to FWS | ML063060187
Request for Additional Information (RAI) | ML062020156
RAI Responses | ML061880362/ML061460118
THPO letters to NRC | ML0634901270/ML070710156
SHPO letter to NRC | ML070030536
SCDHEC letter to NRC | ML063610016
FWS letter to NRC | ML070050255
Environmental Assessment | ML070510647

If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O-1F21, One White Flint North, 11555 Rockville Pike, Rockville, MD 20852. The PDR reproduction contractor will copy documents for a fee.

Dated at Rockville, Maryland, this 27th day of April 2007.
For the U.S. Nuclear Regulatory Commission.
Gregory Suber,
Acting Chief, Environmental Review Branch, Division of Waste Management and Environmental Protection, Office of Federal and State Materials and Environmental Management Programs.

[FR Doc. E7-9846 Filed 5-21-07; 8:45 am]

BILLING CODE 7590-01-P